DEPARTMENT OF TRANSPORTATION

Federal Aviation Administration

14 CFR Chapter 1

[Docket No. FAA-2000-7623]

Review of Existing Regulations

AGENCY: Federal Aviation Administration (FAA), DOT.

ACTION: Review of regulations; request for comments.

SUMMARY: This notice invites you, as a member of the public, to tell us, the FAA, which regulations now in effect you believe we should amend, eliminate, or simplify. We are publishing this notice in response to Presidential Executive Order No. 12866, directing certain Federal agencies to periodically review their regulations. We need to ensure that they are consistent with statutory authority and are in the public interest. Your comments will assist us in conducting this review and in determining what actions we should take, if any.

DATES: Comments should be submitted on or before October 11, 2000.

ADDRESSES: Comments should be mailed or delivered in duplicate to: U.S. Department of Transportation Dockets, Docket No. [FAA-2000-7623], 400 Seventh Street, SW., Room Plaza 401, Washington, DC 20590. Comments may be filed and examined in Room Plaza 401 between 10 a.m. and 5 p.m. weekdays, except Federal holidays. Comments also may be sent electronically to the Dockets Management System (DMS) at the following Internet address: htpp;//dms.dot.gov. Commenters who wish to file comments electronically should follow the instructions on the DMS web site.

FOR FURTHER INFORMATION CONTACT: Gerri Robinson, ARM-24, Office of Rulemaking, Federal Aviation Administration, 800 Independence Ave. SW., Washington, DC 20591; telephone (202) 267-9678, facsimile (202) 267-5075.

SUPPLEMENTARY INFORMATION: In recent years, the FAA conducted several regulatory reviews. In his 1992 State of the Union address, then-President Bush called for a 90-day moratorium on and review of Federal regulations. We responded by asking for public comments on our regulatory program as part of that overall government review (57 FR 4744, Feb. 7, 1992). Based on comments we received, we revised our regulatory agenda.

In 1994, we did another public review (59 FR 1362, Jan. 10, 1994) responding to recommendations from the National Commission to Ensure a Strong Competitive Airline Industry. We were also responding to Vice President Gore's National Performance Review and acting on Department of Transportation (DOT) and FAA regulatory initiatives. We initiated that review of our regulations to reduce any unjustified burdens and as a result of that review we also revised our regulatory agenda and our priorities. At the same time, we announced a Regulatory Review Program to seek public input every three years (60 FR 44142, Aug. 24, 1995). After each review, we published a disposition of the comments.

The most recent review in the 3-year review cycle was announced in the Federal Register on May 15, 1997 (62 FR 26894, May 15, 1997). As a result of the Review of Existing Rules, the FAA identified several issues that it determined would be addressed in future rulemaking projects and concluded the review with a general disposition of comments on October 22, 1998 (63 FR 56539, Oct. 22, 1998).

Three-Year Regulatory Review Program; Request for Comments

As part of this ongoing Regulatory Review Program, you may submit a total of three regulations, in priority order, that you believe should be amended, revised, or eliminated. Our agency's goal is to identify regulations which impose unjustified regulatory burdens or are no longer necessary. We also want to identify regulations that need to be clarified or simplified, or overlap, duplicate, or conflict with other regulations. Also, please identify any regulations that have a significant economic burden on a substantial number of small entities that you consider no longer justified.

To focus on areas of greatest interest, and to effectively manage FAA resources, we ask that you limit your comments to the issues you consider most urgent, and list them in priority order. We will review the issues addressed by all the commenters in light of our current regulatory agenda (64 FR 64682, November 22, 1999). We will consider your comments and adjust our regulatory priorities consistent with our statutory responsibilities. When we are done reviewing all comments, we will publish a summary and an explanation of how we will act on them, telling you how we will adjust our priorities.

Finally, please give us any specific suggestions where the regulations could be redone to be performance-based rather than prescriptive and submit your suggested language.

Issued in Washington DC, on July 7, 2000.
Thomas E. McSweeney,
Associate Administrator for Regulation and Certification.

[FR Doc. 00-17790 Filed 7-12-00; 8:45 am]

BILLING CODE 4910-13-M